DEPARTMENT OF TRANSPORTATION

Federal Aviation Administration

[Docket No. 2025-1127]

Agency Information Collection Activities: Requests for Comments; Clearance of a Renewed Approval of Information Collection: Recording of Aircraft Conveyances and Security Documents.

AGENCY: Federal Aviation Administration (FAA), DOT.

ACTION: Notice and request for comments.

SUMMARY: In accordance with the Paperwork Reduction Act of 1995, FAA invites public comments about our intention to request the Office of Management and Budget (OMB) approval to revise and renew an information collection. The collection involves a security holder completing an AC Form 8050-98, Aircraft Security Agreement and returning a completed AC Form 8050-41, Notice of Recordation—Aircraft Security Conveyance with Part II—Release to the Civil Aviation Registry, Aircraft Registration Branch (Registry). The information is used to record a security interest in an aircraft and eligible engines, propellers, or spare part locations and release that interest when the debt is satisfied.

DATES: Written comments should be submitted by August 22, 2025.

ADDRESSES: Please send written comments:

By Electronic Docket: www.regulations.gov (Enter docket number into search field).

By mail: Natalie Wilkowske, Acting Manager, Aircraft Registration Branch, P.O. Box 25504, Oklahoma City, OK 73125.

By fax: 405-954-8068.

FOR FURTHER INFORMATION CONTACT: Shantel Young by email at: shantel.young@faa.gov; phone: 405-954-7077.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0043.

Title: Recording of Aircraft Conveyances and Security Documents.

Form Numbers: AC Form 8050-98 and AC Form 8050-41.

Type of Review: Revision and renewal of an information collection.

Background: Title 49 U.S.C. 44108 provides for establishing and maintaining a system for the recording of security conveyances affecting an interest in U.S. civil aircraft and eligible engines, propellers, and spare part locations, and for recording releases of those conveyances. Federal Aviation Regulation 14 CFR part 49 establishes procedures for implementation of 49 U.S.C. 44108 and describes what information must be contained in a security conveyance and release of that conveyance for the FAA to record and release a security interest.

A security holder submits a security conveyance against aircraft and eligible engines, propellers, and/or spare part locations to the Registry for recording. The Registry provides the AC Form 8050-98 for security holders to use to show their security interest. The security holder may use their own form providing it meets recording requirements. The Registry records the security conveyance and sends an AC Form 8050-41, Notice of Recordation—Aircraft Security Conveyance, to the security holder. When the security conveyance is ready for release, the lienholder completes Part II—Release at the bottom of the form and returns it to the Registry as official notification that the debt has been satisfied. The security holder may also use their own form to release the security conveyance.

The AC Form 8050-98, Security Agreement, was moved from OMB collection 2120-0042—Aircraft Registration since it is not a form required for aircraft registration.

Respondents: 25,216 security conveyances and 18,252 release notifications were filed in FY2024.

Frequency: On occasion.

Estimated Average Burden per Response: 45 minutes and 15 minutes.

Estimated Total Annual Burden: 23,475 hours.

Issued in Oklahoma City, OK, on May 30, 2025.
Shantel Young,
Management and Program Analyst, Civil Aviation Registry, Aircraft Registration Branch, AFB-710.

[FR Doc. 2025-11530 Filed 6-23-25; 8:45 am]

BILLING CODE 4910-13-P